NUCLEAR REGULATORY COMMISSION

Documents Containing Reporting or Recordkeeping Requirements: Office of Management and Budget (OMB) Review

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35).

1. Type of submission, new, revision, or extension: Revision.

2. The title of the information collection: Proposed Rule, 10 CFR Part 50, Releasing Part of a Power Reactor Site or Facility for Unrestricted Use Before the NRC Approves the License Termination Plan.

3. The form number if applicable: Not applicable.

4. How often the collection is required: Each time a licensee requests NRC approval of a release of part of its site or facility (partial site release) before NRC approval of its LTP.

5. Who will be required or asked to report: Power reactor licensees.

6. An estimate of the number of responses: An average of two partial site releases each year.

7. The estimated number of annual respondents: Two.

8. An estimate of the total number of hours needed annually to complete the requirement or request: Part 50: 934 hours (for each of 2 partial site releases: 438 hours reporting + 24 hours recordkeeping; + 10 hours for update of one LTP submittal); Part 51: 240 hours (120 hours per response).

9. An indication of whether section 3507(d), Pub. L. 104-13 applies: Applicable

10. Abstract: The NRC is amending its regulations in part 50 to establish a process for allowing power reactor licensees to release part of their site for unrestricted use before receiving approval of their License Termination Plan (LTP). The proposed rule would add section 50.83 to 10 CFR Part 50 describing the criteria and the regulatory framework that a power reactor licensee must use to request NRC approval for a partial site release. The proposed new section would allow licensees to submit a letter request or, depending on radiological conditions, a license amendment application. In either case, the submittal would document the licensee's completion of a number of evaluations, surveys, recordkeeping, and reporting that would establish licensee compliance with health and safety considerations.

Submit, by September 28, 2001, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the submittal may be viewed free of charge at the NRC Public Document Room, One White Flint North, 11555 Rockville Pike, Room O-1 F23, Rockville, MD 20852. The proposed rule indicated in “The title of the information collection” is or has been published in the Federal Register within several days of the publication date of this Federal Register Notice. The OMB clearance package and rule are available at the NRC worldwide web site: http://www.nrc.gov/NRC/PUBLIC/OMB/index.html for 60 days after the signature date of this notice and are also available at the rule forum site, http://ruleforum.llnl.gov.

Comments and questions should be directed to the OMB reviewer by September 28, 2001: Bryon Allen, Office of Information and Regulatory Affairs (3150-0011, and -0021) NEOB-10202, Office of Management and Budget, Washington, DC 20503.

Comments can also be submitted by telephone at (202) 395-3087.

The NRC Clearance Officer is Brenda Jo. Shelton, 301-415-7233.

Dated at Rockville, Maryland, this 23rd day of August 2001.
For the Nuclear Regulatory Commission.
Beth C. St. Mary,
Acting NRC Clearance Officer, Office of the Chief Information Officer.

[FR Doc. 01-21855 Filed 8-28-01; 8:45 am]

BILLING CODE 7590-01-P